DEPARTMENT OF COMMERCE

National Oceanic and Atmospheric Administration

RIN: 0648-XD27

South Atlantic Fishery Management Council; Public Hearings

AGENCY: National Marine Fisheries Service (NMFS), National Oceanic and Atmospheric Administration, Commerce.

ACTION: Addendum to Earlier Notice - “Notice of Public Hearings for Amendments 15A and 15B to the Snapper Grouper Fishery Management Plan for the South Atlantic Region”.

SUMMARY: The start time for the public hearing scheduled for Atlantic Beach, NC on December 3, 2007 regarding Amendment 15A and Amendment 15B to the Snapper Grouper Fishery Management Plan has been changed from 6:00 p.m. to 7:00 p.m.

DATES: The change applies to the public hearing scheduled for December 3, 2007.

ADDRESSES: The public hearing will be held at the Sheraton Atlantic Beach, 2717 W. Fort Macon Road, Atlantic Beach, NC 28512; telephone: (252) 240-1155

FOR FURTHER INFORMATION CONTACT: Richard DeVictor, South Atlantic Fishery Management Council, 4055 Faber Place Drive, Suite 201, North Charleston, SC 29405; telephone: (843) 571-4366; fax: (843) 769-4520; email address: Richard.devictor@safmc.net.

SUPPLEMENTARY INFORMATION: The original notice published in the Federal Register on October 19, 2007 (72 FR 59257). This notice serves as an addendum to change the start time of the December 3 public hearing. All other previously-published information remains unchanged.

Dated: November 13, 2007.
Tracey L. Thompson,
Acting Director, Office of Sustainable Fisheries, National Marine Fisheries Service.

[FR Doc. E7-22404 Filed 11-15-07; 8:45 am]

BILLING CODE 3510-22-S